DEPARTMENT OF ENERGY

Federal Energy Regulatory Commission

[Project No. 3449-014]

City of North Little Rock, Arkansas; Notice of Effectiveness of Withdrawal of Request To Reassess Headwater Benefits

On February 18, 2025, the City of North Little Rock, Arkansas (licensee) filed a Request to Reassess Headwater Benefits for the Murray Lock & Dam Project No. 3449.¹ On March 5, 2025, the licensee filed a notice of withdrawal of the request. The project is located at the existing U.S. Army Corps of Engineers' Murray Lock and Dam No. 7, on the Arkansas River, adjacent to the City of North Little Rock, in Pulaski County, Arkansas.

¹ City of North Little Rock, Arkansas, 24 FERC ¶ 62,207 (1983).

No motion in opposition to the notice of withdrawal has been filed, and the Commission has taken no action to disallow the withdrawal. Pursuant to Rule 216(b) of the Commission's Rules of Practice and Procedure,² the withdrawal of the application became effective on March 20, 2025, and this proceeding is hereby terminated.

² 18 CFR 385.216(b) (2024).

Dated: March 21, 2025.
Debbie-Anne A. Reese,
Secretary.

[FR Doc. 2025-05312 Filed 3-27-25; 8:45 am]

BILLING CODE 6717-01-P